INTERNATIONAL TRADE COMMISSION

[USITC SE-13-013]

Sunshine Act Meetings

AGENCY HOLDING THE MEETING: United States International Trade Commission

TIME AND DATE: June 18, 2013 at 12:00 p.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. No. 731-TA-1110 (Review) (Sodium Hexametaphosphate from China). The Commission is currently scheduled to transmit its determination and Commissioners' opinions to the Secretary of Commerce on or before June 28, 2013.

5. Outstanding action jackets: none.

In accordance with Commission policy, subject matter listed above, not disposed of at the scheduled meeting, may be carried over to the agenda of the following meeting.

Issued: June 11, 2013.
By order of the Commission.
William R. Bishop,
Supervisory Hearings and Information Officer.

[FR Doc. 2013-14177 Filed 6-11-13; 4:15 pm]

BILLING CODE 7020-02-P